FEDERAL RESERVE SYSTEM

Formations of, Acquisitions by, and Mergers of Bank Holding Companies; Correction

This notice corrects a notice (FR Doc. 2015-06196) published on pages 14133 and 14134 of the issue for Wednesday, March 18, 2015.

A. Federal Reserve Bank of Minneapolis (Jacquelyn K. Brunmeier, Assistant Vice President) 90 Hennepin Avenue, Minneapolis, Minnesota 55480-0291:

1. Beartooth Financial Corporation, Billings, Montana; to become a bank holding company by acquiring 100 percent of the voting shares of Beartooth Bank, Billings, Montana.

B. Federal Reserve Bank of Dallas (Robert L. Triplett III, Senior Vice President) 2200 North Pearl Street, Dallas, Texas 75201-2272:

1. FNBK Holdings, Inc., Dallas, Texas; to become a bank holding company by acquiring 100 percent of the voting shares of The First National Bank of Kemp, Kemp, Texas.

Comments on this application must be received by April 13, 2015.

Board of Governors of the Federal Reserve System, March 19, 2015.
Margaret McCloskey Shanks,
Deputy Secretary of the Board.

[FR Doc. 2015-06673 Filed 3-23-15; 8:45 am]

BILLING CODE 6210-01-P